DEPARTMENT OF THE INTERIOR

Bureau of Land Management

[AK-931-1310-DQ-NPRA]

Notice of Availability of the Northwest National Petroleum Reserve—Alaska Final Integrated Activity Plan/Environmental Impact Statement

AGENCY: Bureau of Land Management, Interior.

ACTION: Notice of availability.

SUMMARY: The Northwest National Petroleum Reserve—Alaska (NPR-A) Final Integrated Activity Plan/ Environmental Impact Statement (IAP/EIS) will be made available to the public for a 30-day period beginning on the date the Environmental Protection Agency (EPA) files a Notice of Availability of the Final IAP/EIS in the Federal Register. The EPA notice is expected to be filed on or about November 28, 2003. A Record of Decision (ROD) will be issued after the 30-day availability period. The ROD will identify the selected alternative as well as mitigation measures.

The Bureau of Land Management (BLM) has worked closely with the North Slope Borough and the State of Alaska in developing the Final IAP/EIS. The Minerals Management Service of the Department of the Interior has also assisted the BLM in developing the document.

ADDRESSES: The Final IAP/EIS will be available in either hard copy or on compact disk at the Alaska State Office, Public Information Center at 222 West 7th Avenue, Anchorage, Alaska 99513-7599. Copies of the Final IAP/EIS will also be available at the following locations: Tuzzy Public Library, Barrow, Alaska; City of Nuiqsut, Nuiqsut, Alaska; City of Atqasuk, Atqasuk, Alaska; City of Anaktuvuk, Pass, Anaktuvuk Pass, Alaska; City of Wainwright, Wainwright, Alaska; and City of Point Lay, Point Lay, Alaska.

The Final IAP/EIS will also be available on BLM's Web site at http://www.ak.blm.gov.

FOR FURTHER INFORMATION CONTACT: Curt Wilson, BLM Alaska State Office, (907) 271-5546.

SUPPLEMENTARY INFORMATION: The Planning Area boundary encompasses approximately 9.4 million acres located in the northwestern portion of the NPR-A. Within the 9.4 million acre Planning Area are approximately 8.8 million acres of federal surface and 9.1 million acres of federal subsurface estate. The Planning Area is roughly bounded on the east by the Ikpikpuk River. The southern boundary extends along a portion of the Colville River and then proceeds along township and section lines in a “stair-step” fashion to the northwestern corner of the NPR-A at Icy Cape on the Arctic Ocean. The northern boundary from Icy Cape to the mouth of the Ikpikpuk River follows the Arctic Ocean coastline encompassing the bays, lagoons, inlets, and tidal waters between the NPR--'s outlying islands and the mainland. The Final IAP/EIS addresses three primary questions regarding management of the Northwest portion of the NPR-A. First, what lands, if any, will be made available for oil and gas leasing? Second, what measures will BLM use to protect important surface resources during oil and gas exploration and development activities? Third, what non-oil and gas land use allocations should BLM consider for the Northwest portion of the NPR-A?

The release of the Final IAP/EIS concludes a planning and environmental analysis process for the Northwest portion of the NPR-A which started in November, 2002. A Draft IAP/EIS was made available for a 60-day comment period on January 17, 2003. Scoping and comment meetings on the Draft IAP/EIS were held in Nuiqsut, Atqasuk, Barrow, Wainwright, Point Lay, Fairbanks, and Anchorage. The Planning Area provides particularly important habitat for caribou, waterfowl, and other species. Many of the local residents of the area rely on harvesting these resources for subsistence purposes. Ensuring adequate protection of these resources has been one of the main focuses of public comment. The BLM held public hearings on subsistence in conjunction with the public meetings held on the Draft IAP/EIS.

The Final IAP/EIS describes the Preferred Alternative which was developed in consideration of more than 96,000 public comments on the four alternatives included in the Draft IAP/EIS. All the significant elements of the Preferred Alternative were included in one or more of the alternatives presented in the Draft IAP/EIS.

Under the Preferred Alternative, all 9.1 million acres of BLM administered subsurface estate within the Planning Area would be available for oil and gas leasing. No areas would be recommended as Wilderness Study Areas or Wild and Scenic Rivers. Leasing, however, would be deferred for 10 years in the western portion of the Planning Area, which encompasses approximately 1,570,000 acres. The Preferred Alternative also recommends the Kasegaluk Lagoon and adjacent lands for designation as a Special Area and prohibits permanent oil and gas facilities within this 102,000-acre proposed Special Area. Under the Preferred Alternative, setbacks have been established prohibiting permanent facilities within 1/4 to 1 mile along major rivers, deep water lakes and coastal areas to protect subsistence resources/activities and other important surface resources. Multi-year studies are required prior to development to protect spectacled and Steller's eiders, yellow-billed loons, brant and caribou. Other stipulations and required operating procedures establish restrictions and guidance that apply to waste prevention and spills, water use, winter overland moves and seismic activity, exploratory drilling, aircraft use and subsistence consultation.

The no action alternative calls for continuation of current management, and no leasing would occur. Alternatives A through C make progressively less land, especially environmentally sensitive land, available for oil and gas leasing. Alternative A makes 100 percent available for oil and gas leasing, Alternative B makes 96 percent available, and Alternative C makes 47 percent available. Stipulations would provide protection for natural and cultural resources under all alternatives, but their nature, number and scope varies between the alternatives.

Authority for developing this document is derived from the Federal Land Policy and Management Act, the Naval Petroleum Reserves Production Act of 1976, as amended, and the National Environmental Policy Act (NEPA).

Henri R. Bisson,
State Director, Alaska.

[FR Doc. 03-30035 Filed 11-26-03; 4:43 pm]

BILLING CODE 4310-JA-P